DEPARTMENT OF AGRICULTURE

Forest Service

Colville National Forest, WA; Growden Dam and Sherman Creek Restoration

AGENCY: Forest Service, USDA.

ACTION: Notice of intent to prepare an environmental impact statement.

SUMMARY: The Forest Service, USDA, will prepare an environmental impact statement (EIS) on a proposal to remove Growden Dam and improve trout habitat on approximately 3 miles of Sherman Creek. Growden Dam was built in 1937 by the Civilian Conservation Corp as a recreational pond. It serves no irrigation, hydropower, or flood control purpose. The pond has filled in with sediment and poses a safety risk if it washes out. The Proposed Action will be in compliance with the 1988 Colville National Forest Land and Resource Management Plan (Forest Plan) as amended, which provides the overall guidance for management of this area. The Proposed Action is within the Sherman Creek drainage on the Three Rivers Ranger District. The project area would be located from 12 to 16 miles west of Kettle Falls, Ferry County, Washington along State Highway 20. Project implementation is scheduled for fiscal year 2005. The Colville National Forest invites written comments and suggestions on the scope of the analysis. The agency will give notice of the full environmental analysis and decision-making process so interested and affected people may be able to participate and contribute in the final decision.

DATES: Comments concerning the scope of the analysis must be received by March 26, 2004. The draft environmental impact statement is expected August, 2004 and the final environmental impact statement is expected November 2004.

ADDRESSES: Send written comments and suggestions concerning this proposal to Sherri Schwenke, District Ranger, Three Rivers District, 255 West 11th, Kettle Falls, WA 99141. Comments may be submitted electronically by sending them to comments-pacificnorthwest-colville-threerivers@fs.fed.us. Comments may also be sent by FAX (509-738-7701). Include your name and mailing address with your comments so documents pertaining to this project may be mailed to you.

FOR FURTHER INFORMATION CONTACT: For further information, mail correspondence to Sherri Schwenke, District Ranger, Three Rivers District, 255 West 11th, Kettle Falls, WA 99141 (phone 509-738-7700), or to Karen Honeycutt, Project Leader, 765 South Main Street, Colville, WA 99114, (phone 509-684-7000 or e-mail khoneycutt@fs.fed.us). Information about the project will be kept up to date on the Colville National Forest Web site at http://www.fs.fed.us/r6/colville/.

SUPPLEMENTARY INFORMATION:

Purpose and Need for Action

Growden Dam was built in 1937 as a recreational pond. By 1953, the pond had filled with sediment. The dam is not used for irrigation, flood control, or hydropower. The Growden Dam and Sherman Creek Restoration project is proposed to meet specific purposes and needs.

There is a need to reduce the safety risk from a dam failure. At the time of construction, the pond was 20 feet deep at the dam and approximately 6 acres. In the early 1950's, the Sherman Creek Highway was constructed. During construction of the highway, the dam filled with sediment in three years. This turned the pond into a wetland. The sediment buried the cleanout structure. The outlet structure is a drop structure. The dam has a high risk of failure and would cause severe downstream damage if it washed out.

The Washington Department of Ecology's Dam Safety Section surveyed the dam in 1991. Their analysis revealed that under extreme flood conditions, the dam does not meet current Dam Safety Section Standards. Should a dam failure occur, two permanent residences and several vacation cabins would be inundated. The dam almost washed out in the flood of 1998. This would have caused extensive damage to the channel and highway. Approximately 8 miles of stream would be affected. There are also 3 bridges that would probably wash out. There is a Washington State Department of Fish and Wildlife hatchery at the mouth of Sherman Creek. A dam breach would cause significant damage to the hatchery.

There is also a need to reduce downstream stream temperatures to meet Washington State Water Quality temperature standards. Currently as the stream flows through the wetland the maximum water temperatures exceed state standards. In 1999, the Washington Department of Ecology funded a temperature study on Sherman Creek. Two areas showed up as the main contributors to high temperatures. These are Growden Dam and the lower reach of the South Fork of Sherman Creek. Above the influence of the dam, the maximum water temperature was 15.5 degrees C in 1999. At the outlet of the dam the maximum water temperature was 18 degrees C during the same time. South Fork of Sherman Creek adds another 2 degrees C to this, which brought the maximum water temperature to 20 degrees C.

Removing the dam would restore sediment and bed load transport from above Growden to below Growden. The dam also blocks the bed load transport. This has caused portions of the downstream channel to degrade and detach from the floodplain. The stream is no longer able to store wood in these areas. The flows are faster through these areas, causing the debris to be washed out. Bank erosion is increasing in these areas because of the lack of woody debris and floodplain connectivity. Eroding banks are between 5 to 60 feet high. Even though there is sediment coming in from the banks, gravels for spawning are limited. The gravels are being either trapped by the dam or flushed through because of lack of structure to store the gravels.

There is a need to increase sediment storage downstream of Growden to accept new sediment and bedload. In 1998, Sherman Creek was surveyed for habitat parameters. Large woody debris and the number of pools were low. This was caused both by a stream cleanout in 1969 and 1970 and by the dam blocking bed load transport. The downstream channel has downcut and detached from the floodplain. The stream is no longer able to store wood and sediment in these areas. The flows are faster through these areas, causing the debris to be washed out. Without the debris the stream is not able to store sediment. The stream is also not able to reach the larger floodplain that existed before the channel downcut. The floodplain is the most desirable place for sediment deposition. Even with substantial efforts to remove the sediment and restore the historic channel, there will be a short term pulse of sediment delivered to the downstream reaches. The increase in flood plain and stream bank roughness created by LWD (large woody debris) placement will collect and facilitate routing of excess sediment generated by dam decommissioning.

Removal of the dam will restore fish passage through the Growden Reach. The drop structure is a barrier to fish movement. Redband trout and westslope cutthroat trout populations are present in the watershed. The Forest Service has listed these species as sensitive. One of the main populations occurs just below the dam in Lane Creek. This population does not have access to the prime habitat found above the dam.

This project is designed to maintain or restore fully functional and stable riparian and aquatic systems. The Forest Plan has goals of high quality aquatic habitat, water, and riparian resources (Forest Plan Record of Decision Page 4, and Forest Plan page 4-2). The INFISH Forest Plan Amendment has goals of maintaining or restoring stream channel integrity, channel processes, and sediment regime, and diversity and productivity of native and desired non-native plant communities (Inland Native Fish Strategy Attachment A, pages A-1, A-2).

Proposed Action

The Growden Dam and Sherman Creek Restoration project is a proposal to remove the Growden Dam and restore approximately 3 miles of fish habitat downstream of the dam. These proposed actions include: removal of Growden Dam; restoring the channel and valley bottom behind the dam to pre-dam elevations; removing sediment deposits from behind the dam and creating a terrace with part of the sediment and taking the rest to the Lane Creek pit; restoration of Lane Creek pit with sediment from behind the dam; improving fish habitat and sediment storage on approximately 3 miles of stream below the dam; riparian vegetation thinning to get the material needed to the stream restoration.

Possible Alternatives

Possible alternatives include alteration of the dam to allow for flow over the dam. This may include creating an emergency spillway on one side of the dam or reducing the height of the dam to the level of the current substrate.

Lead and Cooperating Agencies

The Ferry Conservation District, the Washington Department of Ecology, and the U.S. Department of Transportation Federal Highway Administration are cooperating agencies for this project.

Responsible Official

Sherri Schwenke, District Ranger, Three Rivers District, 255 West 11th, Kettle Falls, WA 99141 (phone 509-738-7700).

Nature of Decision To Be Made

The responsible official will decide which, if any, of the alternatives will be implemented. This entails in what way the Growden Dam will be decommissioned to meet the purpose and need. The responsible official will also decide what type of restoration will occur on the lower three miles of habitat. Her decision and rationale for the decision will be documented in the record of decision, which will be subject to Forest Service Appeal Regulations (36 CFR part 215).

Scoping Process

The scoping process will include the following: Identify and clarify issues; identify key issues to be analyzed in depth; explore alternatives based on themes which will be derived from issues recognized during scoping activities; and identify potential environmental effects of the Proposed Action and alternatives. A range of alternatives will be considered, including a No-Action alternative.

Preliminary Issues

The issues related to the Growden Dam and Sherman Creek Restoration project include safety, reducing stream temperatures, restoring bedload transport, cultural resource damage, fish passage, noxious weeds, tribal concerns, destruction of wetland and beaver habitat, and recreation.

Safety is the largest issue with the dam. The risk of dam failure must be reduced. The reduction in dam failure risk would be measured by the amount of dam removed.

Sherman Creek exceeds the state standard for temperature. Growden Dam is suspected to be one of two main causes. Removal of Growden Dam may bring temperatures back into state standards. This will be measured by the amount of stream channel improved and the amount of wetland remaining behind the dam.

Growden Dam has blocked most bedload from the lower reach of Sherman Creek. This has caused streambank erosion and stream degradation, which has led to poor fish habitat. Improvement will be measured by the amount of bedload allowed through the dam site and the amount of stream reconnected to the floodplain.

Growden Dam is located on a Civilian Conservation Corp (CCC) era site. The dam was built by the CCC. The dam is being evaluated for historical significance. The amount of alteration to the site is at issue.

There is no fish passage around the dam. The best fish habitat is found in the reaches above the dam. Opening this access up to the rest of the fish population will improve the fisheries.

Noxious weeds are a major concern; there appears to be agreement that noxious weeds are a problem and that weed spread should be prevented. In response to this concern, the Colville National Forest implemented a policy: “Noxious Weeds Prevention Guidelines” in November 1999. Because these guidelines will be incorporated into all action alternatives, there is not expected to be a need to develop alternatives that directly respond to this concern. Potential for noxious weed spread will be measured by the acres of bare soil and miles of roaded access created or closed.

The Confederated Tribes of the Colville Reservation have reserved hunting, fishing, and gathering rights on the “North Half Reservation,” which includes the Growden Dam and Sherman Creek Restoration project area. These rights are regarded by tribal members as cultural, ceremonial, and spiritual subsistence. The primary concern in the Sherman Creek watershed is the downstream fisheries as potentially affected by aquatic health. To date, there have been no public comments regarding Tribal concerns, other than those already listed above.

The Growden Dam and Sherman Creek Restoration project area is an important recreation area on the Three Rivers Ranger District. The area has one developed campground, paved access, two miles of paved hiking trails, and two developed trailhead/day use areas. The area is used for berry picking, hunting, dispersed camping, fishing, driving for pleasure, and a variety of other recreational activities.

Permits or Licenses Required

Hydraulic Project Approval from the Washington Department of Fish and Wildlife under 75.20 RCW is required since the project includes construction of other work, that: will use, divert, obstruct, or change the natural flow or bed of fresh water of the state. This includes all construction or other work waterward and over the ordinary high water line, including dry channels, and may include projects landward of the ordinary high water line (e.g., activities outside the ordinary high water line that will directly impact fish life and habitat, falling trees into streams or lakes, etc.).

Section 401 Water Quality Certification from the Washington Department of Ecology under 33 U.S.C. 1341 is needed since a federal approval is required for a project by the Corps of Engineers.

Approval to Allow Temporary Exceedance of Water Quality Standards from the Washington Department of Ecology is required, under 90.48 RCW, since the project may result in a temporary exceedance of water quality criteria established by WAC 173-201A for in water work (e.g., changes in turbidity from sediment disturbances).

Section 404 Permit from the Corps of Engineers under 33 U.S.C. 1344 is required since the project includes discharge or excavation of dredged or fill material waterward of the ordinary high water mark in waters of the United States, including wetlands; and mechanized land clearing in waters of the United States, including wetlands.

Comment Requested

The Forest Service is seeking information, comments, and assistance from other agencies, organizations, Indian Tribes, and individuals who may be interested in or affected by the Proposed Action. This input will be used in preparation of the draft EIS. Your comments are appreciated throughout the analysis process.

Comments received in response to this notice, including names and addresses of those who comment, will be considered part of the public record on this Proposed Action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: February 6, 2004.
Rick Brazell,
Forest Supervisor.

[FR Doc. 04-4447 Filed 2-27-04; 8:45 am]

BILLING CODE 3410-11-M